DEPARTMENT OF ENERGY

Federal Energy Regulatory Commission

Combined Notice of Filings #1

Take notice that the Commission received the following electric rate filings:

Docket Numbers: ER11-3225-001.

Applicants: Midwest Independent Transmission System Operator, Inc.

Description: Midwest Independent Transmission System Operator, Inc. submits tariff filing per 35: 08-25-11 Att. C Compliance Amendment to be effective 4/1/2011.

Filed Date: 08/25/2011.

Accession Number: 20110825-5089.

Comment Date: 5 p.m. Eastern Time on Thursday, September 15, 2011.

Docket Numbers: ER11-3306-000.

Applicants: Duke Energy Corporation, Progress Energy, Inc.

Description: Minor Amendments to the pro forma Joint Dispatch Agreement filed by the Applicants.

Filed Date: 07/18/2011.

Accession Number: 20110718-5121.

Comment Date: 5 p.m. Eastern Time on Tuesday, September 6, 2011.

Docket Numbers: ER11-4368-000.

Applicants: Southern California Edison Company.

Description: Southern California Edison Company submits tariff filing per 35.13(a)(2)(iii: Letter Agreement for Mammoth Pacific, L.P., Casa Diablo 4 Project to be effective 8/14/2011.

Filed Date: 08/25/2011.

Accession Number: 20110825-5000.

Comment Date: 5 p.m. Eastern Time on Thursday, September 15, 2011.

Docket Numbers: ER11-4369-000.

Applicants: North American Power and Gas, LLC.

Description: North American Power and Gas, LLC submits tariff filing per 35.1: North American Power and Gas, LLC MBR Tariff to be effective 8/25/2011.

Filed Date: 08/25/2011.

Accession Number: 20110825-5029.

Comment Date: 5 p.m. Eastern Time on Thursday, September 15, 2011.

Docket Numbers: ER11-4370-000.

Applicants: Cleco Power LLC.

Description: Cleco Power LLC submits tariff filing per 35.13(a)(2)(iii: RS25 revised to be effective 8/25/2011.

Filed Date: 08/25/2011.

Accession Number: 20110825-5037.

Comment Date: 5 p.m. Eastern Time on Thursday, September 15, 2011.

Docket Numbers: ER11-4371-000.

Applicants: PacifiCorp.

Description: PacifiCorp submits tariff filing per 35.13(a)(2)(iii: PAC Energy NITSA Rev 9 to be effective 7/28/2011.

Filed Date: 08/25/2011.

Accession Number: 20110825-5038.

Comment Date: 5 p.m. Eastern Time on Thursday, September 15, 2011.

Docket Numbers: ER11-4372-000.

Applicants: PacifiCorp.

Description: PacifiCorp submits tariff filing per 35.15: Termination of City of Nephi Construction Agreement to be effective 9/16/2011.

Filed Date: 08/25/2011.

Accession Number: 20110825-5039.

Comment Date: 5 p.m. Eastern Time on Thursday, September 15, 2011.

Docket Numbers: ER11-4373-000.

Applicants: PacifiCorp.

Description: PacifiCorp submits tariff filing per 35.13(a)(2)(iii: UMPA Revised ARTSOA to be effective 6/18/2011.

Filed Date: 08/25/2011.

Accession Number: 20110825-5040.

Comment Date: 5 p.m. Eastern Time on Thursday, September 15, 2011.

Docket Numbers: ER11-4374-000.

Applicants: Portland General Electric Company.

Description: Portland General Electric Company submits tariff filing per 35.13(a)(2)(iii: PGE Volume 12 to be effective 10/24/2011.

Filed Date: 08/25/2011.

Accession Number: 20110825-5061.

Comment Date: 5 p.m. Eastern Time on Thursday, September 15, 2011.

Docket Numbers: ER11-4375-000.

Applicants: City of Pasadena, California.

Description: City of Pasadena, California submits tariff filing per 35.13(a)(1): TRR and TO Tariff Update to be effective 9/1/2011.

Filed Date: 08/25/2011.

Accession Number: 20110825-5080.

Comment Date: 5 p.m. Eastern Time on Thursday, September 15, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2011.
Nathaniel J. Davis, Sr.,
Deputy Secretary.

[FR Doc. 2011-22735 Filed 9-6-11; 8:45 am]

BILLING CODE 6717-01-P